DEPARTMENT OF COMMERCE

National Oceanic and Atmospheric Administration

[I.D. 060305A]

Marine Mammals; File Nos. 782-1768, 358-1769, 715-1784, 434-1669, 1010-1641, and 881-1668

AGENCY: National Marine Fisheries Service (NMFS), National Oceanic and Atmospheric Administration (NOAA), Commerce.

ACTION: Issuance of permits and permit amendments.

SUMMARY: Notice is hereby given that the following individuals and institutions have been issued a permit or permit amendment to conduct research on Steller sea lions (Eumetopias jubatus): the National Marine Mammal Laboratory, Alaska Fisheries Science Center, Seattle, WA (NMML: File No. 782-1768); the Alaska Department of Fish and Game, Anchorage, AK (ADF&G: File No. 358-1769); the North Pacific Universities Marine Mammal Research Consortium, University of British Columbia, Vancouver, B.C. (NPUMMRC: File No. 715-1784); the Oregon Department of Fish and Wildlife, Corvallis, OR (ODFW; File No. 434-1669); the Aleutians East Borough, Juneau, AK (AEB: File No. 1010-1641); and the Alaska SeaLife Center, Seward, AK (ASLC: File No. 881-1668).

ADDRESSES: The permits and related documents are available for review upon written request or by appointment in the following offices:

Permits, Conservation and Education Division, Office of Protected Resources, NMFS, 1315 East-West Highway, Room 13705, Silver Spring, MD 20910; phone (301) 713-2289; fax (301) 427-2521;

Northwest Region, NMFS, 7600 Sand Point Way NE, BIN C15700, Bldg. 1, Seattle, WA 98115-0700; phone (206) 526-6150; fax (206) 526-6426; and

Alaska Region, NMFS, P.O. Box 21668, Juneau, AK 99802-1668; phone (907) 586-7221; fax (907) 586-7249.

FOR FURTHER INFORMATION CONTACT: Tammy Adams or Amy Sloan, (301) 713-2289.

SUPPLEMENTARY INFORMATION: On April 4, 2005, notice was published in the Federal Register (70 FR 17072) that requests for permits and permit amendments to conduct research on Steller sea lions had been submitted by the above-named individuals and institutions. The requested permits and amendments have been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Permit No. 782-1768 has been issued to NMML to allow them to conduct aerial surveys and ground counts as well as capture, sample, and mark Steller sea lions. The permit is valid for five years from the date of issuance and allows a limited number of sea lion mortalities incidental to the research.

Permit No. 358-1769 has been issued to ADF&G to allow them to conduct aerial surveys and ground counts as well as capture, sample, and mark Steller sea lions. The permit is valid for five years from the date of issuance and allows a limited number of sea lion mortalities incidental to the research.

Permit No. 715-1784 has been issued to NPUMMRC to allow them to collect data on sea lion distribution and diet compositions through aerial surveys of sea lion rookeries and haul outs in Southeast Alaska; collection of scat from rookeries and haul outs in Southeast Alaska; conducting behavioral observations of sea lions on rookeries, haul outs and tagged sea lions at sea; and mortality incidental to research. The permit is valid for five years from the date of issuance.

Permit No. 434-1669, issued to ODFW on November 12, 2002 (67 FR 69724) has been amended to extend the duration of the permit for three years, incorporate a study on the effects of hot-brands, and allow an increase in the number of sea lions harassed annually during research.

Permit No. 1010-1641, issued to AEB on November 12, 2002 (67 FR 69724), has been amended to extend the duration of the permit for three years and increase the number of sea lions that may be harassed annually during research.

Permit No. 881-1668, issued to the ASLC on November 12, 2002 (67 FR 69724), has been amended to extend the duration of the permit, modify some of the study objectives, change some of the study methods, and increase the numbers of Steller sea lions that may be captured, harassed, or killed incidental to the research.

In compliance with the National Environmental Policy Act of 1969 (42 U.S.C. 4321 et seq.), an environmental assessment was prepared analyzing the effects of the permitted activities. After a Finding of No Significant Impact, the determination was made that it was not necessary to prepare an environmental impact statement.

Issuance of these permits and amendments, as required by the ESA, was based on a finding that such permits and amendments: (1) were applied for in good faith; (2) will not operate to the disadvantage of such endangered species; and (3) are consistent with the purposes and policies set forth in section 2 of the ESA.

Dated: June 8, 2005.
Stephen L. Leathery,
Chief, Permits, Conservation and Education Division, Office of Protected Resources, National Marine Fisheries Service.

[FR Doc. 05-11838 Filed 6-15-05; 8:45 am]

BILLING CODE 3510-22-S